DEPARTMENT OF HEALTH AND HUMAN SERVICES

Centers for Disease Control and Prevention

[60Day-16-16MM; Docket No. CDC-2016-0019]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed information collection project entitled Performance Monitoring of “Working with Publicly Funded Health Centers to Reduce Teen Pregnancy among Youth from Vulnerable Populations.” CDC seeks to collect information to monitor performance of three awardees working on teen pregnancy prevention project and to determine training and technical assistance needs to address any performance issues.

DATES: Written comments must be received on or before April 5, 2016.

ADDRESSES: You may submit comments, identified by Docket No. CDC-2016-0019 by any of the following methods:

Federal eRulemaking Portal: Regulation.gov. Follow the instructions for submitting comments.

Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Performance Monitoring of “Working with Publicly Funded Health Centers to Reduce Teen Pregnancy among Youth from Vulnerable Populations”—New—National Center for Chronic Disease Prevention and Health Promotion (NCCDPHP), Centers for Disease Control and Prevention (CDC).

Background and Brief Description

In 2014, the US rate of 24.2 births per 1,000 women aged 15-19 was the highest of all Western industrialized countries. Access to reproductive health services and the most effective types of contraception have been shown to reduce the likelihood that teens become pregnant. Nevertheless, reviews of recent research and teen pregnancy prevention projects, including a collaborative project implemented by CDC and the HHS Office of Adolescent Health (2010-2015), demonstrate that many health centers serving adolescents do not engage in youth-friendly best practices that may enhance access to care and to the most effective types of contraception. Furthermore, youth at highest risk of experiencing a teen pregnancy are often not connected to the reproductive health care that they need, even when they are part of a population that is known to be at high risk for a teen pregnancy. Significant racial, ethnic and geographic disparities in teen birth rates persist and continue to be a focus of public health efforts.

To address these challenges, CDC is providing funding to three organizations to strengthen partnerships and processes that improve reproductive health services for teens. CDC's awardees will work with approximately 35 publicly funded health centers to implement organizational changes and provider training based on best practices in adolescent reproductive health care. In addition, awardees will work with approximately 30 youth-serving organizations (YSO) to provide staff training and develop systematic approaches to identifying youth who are at risk for a teen pregnancy and referring those youth to reproductive health care services. Finally, awardees will develop communication campaigns that increase awareness of the partner health centers' services for teens. Activities are expected to result in changes to health center and YSO partners' policies, to staff practices, and to youth health care seeking and teen pregnancy prevention behaviors.

Although similar activities have been implemented in a variety of teen pregnancy prevention projects, the proposed combination of efforts, and the incorporation of youth-friendly best practices, have not been previously implemented or evaluated. CDC therefore plans to collect information needed to assess these efforts. Information will be collected from the CDC awardees, the health center and YSO partner organizations, and the youth served by the health center partner organizations. CDC will use the information to determine the types of training and technical assistance that are needed, to monitor whether awardees meet objectives related to health center and YSO partners' policies and staff practices, to support a data-driven quality improvement process for adolescent sexual and reproductive health care services and referrals, and to assess whether the project model was effective in increasing the utilization of services by youth.

OMB approval is requested for three years. Participation in the organizational assessment activities is required for awardees and partner organizations. Participation in the Health Center Youth Survey is voluntary for youth and will not involve the collection of identifiable personal information. There are no costs to respondents other than their time.

Estimated Annualized Burden Hours
Respondents | Form name | Number of respondents | Number of responses per respondent | Average burden per response (in hrs.) | Total burden (in hrs.)
Awardee | Training and Technical Assistance Tool | 3 | 12 | 2 | 72
| Quarterly Performance Measure Reporting Tool | 3 | 3 | 2 | 18
| Annual Performance Measure Reporting Tool | 3 | 1 | 6 | 18
Health Center Project Coordinator | Quarterly Performance Measure Reporting Tool | 35 | 3 | 2 | 210
| Annual Performance Measure Reporting Tool | 35 | 1 | 4 | 140
| Health Center Organizational Assessment | 35 | 1 | 2 | 70
Health Center Providers | Health Center Provider Survey | 175 | 1 | 30/60 | 88
Youth | Health Center Youth Survey | 1,750 | 1 | 15/60 | 438
YSO Project Coordinator | Quarterly Performance Measure Reporting Tool | 30 | 3 | 1 | 90
| Annual Performance Measure Reporting Tool | 30 | 1 | 75/60 | 38
| Youth Serving Organization (YSO) Organizational Assessment | 30 | 1 | 1 | 30
YSO Staff | YSO Staff Survey | 450 | 1 | 30/60 | 225
Total |  |  |  |  | 1,437

Leroy A. Richardson,
Chief, Information Collection Review Office, Office of Scientific Integrity, Office of the Associate Director for Science, Office of the Director, Centers for Disease Control and Prevention.

[FR Doc. 2016-02173 Filed 2-4-16; 8:45 am]

BILLING CODE 4163-18-P